DEPARTMENT OF HOMELAND SECURITY

Federal Emergency Management Agency

44 CFR Part 67

[Docket ID FEMA-2011-0002; Docket No. FEMA-B-7755]

Proposed Flood Elevation Determinations

AGENCY: Federal Emergency Management Agency, DHS.

ACTION: Proposed rule; correction.

SUMMARY: On December 28, 2007, FEMA published in the Federal Register a proposed rule that contained an erroneous table. This notice provides corrections to that table, to be used in lieu of the information published at 72 FR 73732. The table provided here represents the flooding sources, location of referenced elevations, effective and modified elevations, and communities affected for Racine County, Wisconsin, and Incorporated Areas. Specifically, it addresses the following flooding sources: Bartlett Branch, Chicory Creek, East/West Canal, Fonk's Tributary, Kilbourn Road Ditch, Lamparek Creek, Nelson Creek, North Cape Lateral, Pike River, Root River, Sorenson Creek, Union Grove Industrial Tributary, Unnamed Tributary No. 18 to Kilbourn Road Ditch, Unnamed Tributary No. 2 to West Branch Root River Canal, Unnamed Tributary No. 37 to Des Plaines River, Unnamed Tributary No. 38 to Des Plaines River, Unnamed Tributary No. 39 to Des Plaines River, Unnamed Tributary to Unnamed Tributary No. 2 to West Branch Root River Canal, and Waxdale Creek.

DATES: Comments are to be submitted on or before July 18, 2011.

ADDRESSES: You may submit comments, identified by Docket No. FEMA-B-7755, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 72 FR 73732, in the December 28, 2007, issue of the Federal Register, FEMA published a table under the authority of 44 CFR 67.4. The table, entitled “Racine County, Wisconsin, and Incorporated Areas” addressed the following flooding sources: Bartlett Branch, Chicory Creek, East/West Canal, Fonk's Tributary, Kilbourn Road Ditch, Lamparek Creek, Nelson Creek, North Cape Lateral, Pike River, Root River, Sorenson Creek, Union Grove Industrial Tributary, Unnamed Tributary No. 18 to Kilbourn Road Ditch, Unnamed Tributary No. 2 to West Branch Root River Canal, Unnamed Tributary No. 37 to Des Plaines River, Unnamed Tributary No. 38 to Des Plaines River, Unnamed Tributary No. 39 to Des Plaines River, Unnamed Tributary to Unnamed Tributary No. 2 to West Branch Root River Canal, and Waxdale Creek. That table contained inaccurate information as to the location of referenced elevation, effective and modified elevation in feet, and/or communities affected for the following flooding sources: Bartlett Branch, Chicory Creek, Kilbourn Road Ditch, Lamparek Creek, Nelson Creek, Pike River, Sorenson Creek, Unnamed Tributary No. 18 to Kilbourn Road Ditch, and Waxdale Creek. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Racine County, Wisconsin, and Incorporated Areas
Bartlett Branch | At the Pike River confluence | +682 | +686 | Village of Mount Pleasant.
| Approximately 70 feet downstream of County Highway C | None | +693
Chicory Creek | Approximately 570 feet upstream of the Pike River confluence | +669 | +668 | Village of Mount Pleasant, Village of Sturtevant.
| At the downstream side of 105th Street | +723 | +722
East/West Canal | At the North Cape Lateral confluence | None | +788 | Unincorporated Areas of Racine County.
| Approximately 40 feet downstream of U.S. Route 45 | None | +788
Fonk's Tributary | Approximately 200 feet upstream of the Union Grove Industrial Tributary confluence | None | +746 | Unincorporated Areas of Racine County.
| Approximately 4,880 feet upstream of the Union Grove Industrial Tributary confluence | None | +781
Kilbourn Road Ditch | At County Line Road | +729 | +726 | Village of Mount Pleasant.
| Approximately 2,400 feet downstream of I-94 | None | +734
Lamparek Creek | At the Pike River confluence | +661 | +660 | Village of Mount Pleasant.
| At the downstream side of 105th Street | +714 | +713
Nelson Creek | At County Line Road | None | +619 | Village of Mount Pleasant.
| At the downstream side of Garden Drive | None | +642
North Cape Lateral | Approximately 30 feet upstream of Britton Road | None | +774 | Unincorporated Areas of Racine County.
| Approximately 2,350 feet upstream of the East/West Canal confluence | None | +789
Pike River | At County Line Road | +657 | +658 | City of Racine, Village of Mount Pleasant.
| Approximately 80 feet downstream of Spring Street | None | +688
Root River | At mouth at Lake Michigan | +583 | +584 | City of Racine.
| Approximately 825 feet upstream of Memorial Drive | +586 | +587
Sorenson Creek | At County Line Road | +614 | +617 | Village of Mount Pleasant, City of Racine.
| Approximately 75 feet downstream of Meachem Road | None | +654
Union Grove Industrial Tributary | At County Line Road | +738 | +743 | Unincorporated Areas of Racine County, Village of Union Grove.
| Approximately 30 feet downstream of Durand Avenue (State Highway 11) | None | +771
Unnamed Tributary No. 18 to Kilbourn Road Ditch | Approximately 1,110 feet downstream of I-94 | +732 | +733 | Unincorporated Areas of Racine County, Village of Mount Pleasant.
| At the upstream side of I-94 | None | +742
Unnamed Tributary No. 2 to West Branch Root River Canal | Approximately 30 feet upstream of Raymond Avenue | +704 | +705 | Unincorporated Areas of Racine County.
| Approximately 3,300 feet downstream of 65th Drive | None | +751
Unnamed Tributary No. 37 to Des Plaines River | Approximately 2,675 feet downstream of 69th Street | +713 | +712 | Unincorporated Areas of Racine County.
| Approximately 70 feet downstream of 69th Street | None | +730
Unnamed Tributary No. 38 to Des Plaines River | At the confluence with the Des Plaines River | None | +710 | Unincorporated Areas of Racine County.
| Approximately 2,750 feet upstream of Durand Avenue (State Highway 11) | None | +762
Unnamed Tributary No. 39 to Des Plaines River | At the confluence with the Des Plaines River | None | +710 | Unincorporated Areas of Racine County.
| Approximately 170 feet downstream of County Line Road | None | +746
Unnamed Tributary to Unnamed Tributary No. 2 to West Branch Root River Canal | Approximately 250 feet upstream of 65th Drive | None | +720 | Unincorporated Areas of Racine County.
| Approximately 125 feet downstream of Colony Avenue | None | +746
Waxdale Creek | At the Pike River confluence | +670 | +671 | Village of Mount Pleasant, Village of Sturtevant.
| Approximately 70 feet downstream of West Road | +736 | +735
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Mitigation Directorate, Federal Emergency Management Agency, 500 C Street, SW., Washington, DC 20472.
ADDRESSES
City of Racine
Maps are available for inspection at City Hall, 730 Washington Avenue, Racine, Wisconsin 53403.
Unincorporated Areas of Racine County
Maps are available for inspection at the Racine County Planning and Development Department, 14200 Washington Avenue, Sturtevant, Wisconsin 53177.
Village of Mount Pleasant
Maps are available for inspection at the Mount Pleasant Village Hall, 6126 Durand Avenue, Racine, Wisconsin 53406.
Village of Sturtevant
Maps are available for inspection at the Village Hall, 2801 89th Street, Sturtevant, Wisconsin 53177.
Village of Union Grove
Maps are available for inspection at the Village Hall, 925 15th Avenue, Union Grove, Wisconsin 53182.

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-9343 Filed 4-15-11; 8:45 am]

BILLING CODE 9110-12-P